DEPARTMENT OF AGRICULTURE

Agricultural Marketing Service

[Doc. No. AMS-SC-24-0054]

Meeting of the Fruit and Vegetable Industry Advisory Committee

AGENCY: Agricultural Marketing Service, USDA.

ACTION: Notice of public meeting.

SUMMARY: In accordance with the Federal Advisory Committee Act, as amended, the Agricultural Marketing Service (AMS), U.S. Department of Agriculture (USDA), is announcing a two-day meeting of the Fruit and Vegetable Industry Advisory Committee (FVIAC). This meeting is being convened to examine the full spectrum of fruit and vegetable industry issues and provide recommendations and ideas on how the USDA can tailor programs and services to better meet the needs of the U.S. produce industry. Agenda items may include, but are not limited to, administrative matters and consideration of recommendations pertaining to labor and production, food safety, infrastructure and sustainability, consumption and nutrition, and data reporting and analysis.

DATES: A hybrid, two-day meeting will be held October 8, 2024, from 1:00 p.m. to approximately 4:00 p.m. Eastern Time (ET) and October 9 from 9:00 a.m.to approximately 3:00 p.m. ET.

Written Comments: Written public comments will be accepted until 11:59 p.m. ET on October 1, 2024, via https://www.regulations.gov: Document #AMS-SC-24-0054. Comments submitted after this date will be provided to AMS, but the Committee may not have adequate time to consider those comments prior to the meeting. AMS, Specialty Crops Program, strongly prefers that written comments be submitted electronically. However, written comments may also be submitted (i.e., postmarked) via mail to the person listed in the FOR FURTHER INFORMATION CONTACT section by or before the deadline.

Oral Comments: The Committee will hear oral public comments via the webinar on October 8, 2024. Persons or organizations wishing to make oral comments must pre-register by 11:59 p.m. ET, October 1, 2024, and can register for only one speaking slot. Instructions for registering and participating in person or via the webinars can be found at https://www.ams.usda.gov/event/usda-fruit-and-vegetable-industry-advisory-committee-meeting-4.

ADDRESSES: The Committee meeting will be held at the USDA National Training and Development Center, 100 Riverside Parkway, Suite 101, Fredericksburg, VA 22406 and via webinar. The webinar can be accessed via the internet and/or phone. Members of the public must register in advance for the webinar. Instructions for registering and participating in the webinar can be found at https://www.ams.usda.gov/event/usda-fruit-and-vegetable-industry-advisory-committee-meeting-4.

FOR FURTHER INFORMATION CONTACT: Jennie M. Varela, Designated Federal Officer, Fruit and Vegetable Industry Advisory Committee, USDA-AMS-Specialty Crops Program, 1124 1st St. S, Winter Haven, FL 33880; Telephone: (202) 658-8616; Email: SCPFVIAC@usda.gov.

SUPPLEMENTARY INFORMATION: Pursuant to the Federal Advisory Committee Act (FACA) (5 U.S.C. 10), the Secretary of Agriculture (Secretary) established FVIAC in 2001 to examine the full spectrum of issues faced by the fruit and vegetable industry and to provide suggestions and ideas to the Secretary on how USDA can tailor its programs to meet the fruit and vegetable industry's needs.

The Designated Federal Officer from the Specialty Crops Program leads the effort to administer the Committee's activities. Representatives from USDA mission areas and other government agencies affecting the fruit and vegetable industry are periodically called upon to participate in the Committee's meetings as determined by the Committee. AMS is giving notice of the Committee meeting to the public so that they may participate and present their views via written comments. The meeting is open to the public and accessible via webinar.

Public Comments: Comments should address specific topics noted on the meeting agenda.

Written Comments: Written public comments will be accepted until 11:59 p.m. ET October 1, 2024, via https://www.regulations.gov: Document #AMS-SC-24-0054. Comments submitted after this date will be provided to AMS, but the Committee may not have adequate time to consider those comments prior to the meeting. AMS, Specialty Crops Program strongly prefers that written comments be submitted electronically. However, written comments may also be submitted (i.e., postmarked) via mail to the person listed in the FOR FURTHER INFORMATION CONTACT section by or before the deadline.

Oral Comments: The Committee will hear oral public comments via the webinar on October 8, 2024. Persons or organizations wishing to make oral comments must pre-register by 11:59 p.m. ET, October 1, 2024, and can register for only one speaking slot. Instructions for registering and participating in the webinars can be found at https://www.ams.usda.gov/event/usda-fruit-and-vegetable-industry-advisory-committee-meeting-4.

Meeting Accommodations: The USDA provides reasonable accommodation to individuals with disabilities. If you are a person requiring reasonable accommodation, please make requests in advance for sign language interpretation, assistive listening devices, or other reasonable accommodation to the person listed under the FOR FURTHER INFORMATION CONTACT section. Determinations for reasonable accommodation will be made on a case-by-case basis.

Equal opportunity practices, in accordance with USDA policies, will be followed in all membership appointments to the Committee. To ensure that the recommendations of the Committee have taken into account the needs of the diverse groups served by the Department, membership shall include, to the extent practicable, individuals with demonstrated ability to represent the many communities, identities, races, ethnicities, backgrounds, abilities, cultures, and beliefs of the American people, including underserved communities.

The USDA prohibits discrimination in all its programs and activities based on race, color, national origin, religion, sex, gender identity (including gender expression), sexual orientation, disability, age, marital status, family/parental status, income derived from a public assistance program, political beliefs, or reprisal or retaliation for prior civil rights activity, in any program or activity conducted or funded by USDA (not all bases apply to all programs).

Dated: September 5, 2024.
Cikena Reid,
Committee Management Officer.

[FR Doc. 2024-20419 Filed 9-9-24; 8:45 am]

BILLING CODE 3410-02-P